DEPARTMENT OF HEALTH AND HUMAN SERVICES

National Institutes of Health

Eunice Kennedy Shriver National Institute of Child Health & Human Development; Amended Notice of Meeting

Notice is hereby given of a change in the meeting of the National Advisory Child Health and Human Development Council, January 11, 2022, 12:00 p.m. to 5:00 p.m.; January 12, 2022, 12:00 to 5:00 p.m., NIH, Building 31, 31 Center Drive, C-Wing, Conference Room 6, Bethesda, MD 20894 which was published in the Federal Register on December 1, 2021, 86 FR 228.

The open session of the meeting on January 12, 2022, 12:00 p.m. to 1:00 p.m. has been canceled. Closed session of the meeting will begin on January 12, 2022, 12:00 p.m. to 5:00 p.m.

David W. Freeman,
Program Analyst, Office of Federal Advisory Committee Policy.

[FR Doc. 2022-00306 Filed 1-10-22; 8:45 am]

BILLING CODE 4140-01-P